DEPARTMENT OF HEALTH AND HUMAN SERVICES

Food and Drug Administration

[Docket No. 2003N-0198]

Agency Information Collection Activities; Submission for Office of Management and Budget Review; Comment Request; Requirements for Medicated Feed Mill License; Correction

AGENCY: Food and Drug Administration, HHS.

ACTION: Notice; correction.

SUMMARY: The Food and Drug Administration (FDA) is correcting a notice that appeared in the Federal Register of August 8, 2003 (68 FR 47331). The document announced the submission of the proposed collection of information entitled “Requirements for Medicated Feed Mill License” to the Office of Management and Budget (OMB) for review and clearance under the Paperwork Reduction Act of 1995. The document was published with an inadvertent error. This document corrects that error.

DATES: Effective September 10, 2003.

FOR FURTHER INFORMATION CONTACT: Denver Presley, Office of Information Resources Management (HFA-250), Food and Drug Administration, 5600 Fishers Lane, rm. 4B-41, Rockville, MD 20857, 301-827-1472.

SUPPLEMENTARY INFORMATION: In FR Doc. 03-20201, appearing on page 47331 in the Federal Register of Friday, August 8, 2003, the following correction is made:

1. On page 47332, in the second column, the title “Medicated Feed Mill License Application—21 CFR Part 515 (OMB Control Number 0910-0037)” is corrected to read “Medicated Feed Mill License Application—21 CFR Part 515 (OMB Control Number 0910-0337)”.

Dated: September 3, 2003.
Jeffrey Shuren,
Assistant Commissioner for Policy.

[FR Doc. 03-22957 Filed 9-9-03; 8:45 am]

BILLING CODE 4160-01-S